DEPARTMENT OF HEALTH AND HUMAN SERVICES

Administration for Children and Families

[CFDA Number: 93.645]

Notice of Allotment Percentages to States for Child Welfare Services State Grants

AGENCY: Children's Bureau, Administration on Children, Youth and Families, Administration for Children and Families, Department of Health and Human Services.

ACTION: Biennial publication of allotment percentages for states under the title IV-B subpart 1, Child Welfare Services State Grants Program.

SUMMARY: As required by section 423(c) of the Social Security Act (42 U.S.C. 623(c)), the Department of Health and Human Services is publishing the allotment percentage for each state under the title IV-B subpart 1, Child Welfare Services State Grants Program. Under section 423(a), the allotment percentages are one of the factors used in the computation of the federal grants awarded under the program.

DATES: The allotment percentages will be effective for federal fiscal years 2018 and 2019.

FOR FURTHER INFORMATION CONTACT: Deborah Bell, Grants Fiscal Management Specialist, Office of Grants Management, Office of Administration, Administration for Children and Families, telephone (202) 401-4611.

SUPPLEMENTARY INFORMATION: The allotment percentage for each state is determined on the basis of paragraphs (b) and (c) of section 423 of the Act. These figures are available on the ACF Internet homepage at: http://www.acf.dhhs.gov/programs/cb/. The allotment percentage for each State is as follows:

State | Allotment percentage **
Alabama | 59.23
Alaska * | 41.66
Arizona | 58.86
Arkansas | 58.95
California | 45.44
Colorado | 47.15
Connecticut | ¹ 30.00
Delaware | 49.75
District of Columbia | ¹ 30.00
Florida | 53.62
Georgia | 57.61
Hawaii * | 50.02
Idaho | 60.23
Illinois | 48.03
Indiana | 56.98
Iowa | 51.63
Kansas | 51.11
Kentucky | 59.34
Louisiana | 54.36
Maine | 55.71
Maryland | 41.06
Massachusetts | 36.19
Michigan | 55.72
Minnesota | 46.82
Mississippi | 62.54
Missouri | 54.87
Montana | 56.55
Nebraska | 48.68
Nevada | 55.79
New Hampshire | 42.77
New Jersey | 37.54
New Mexico | 59.90
New York | 39.59
North Carolina | 57.44
North Dakota | 40.45
Ohio | 54.23
Oklahoma | 53.00
Oregon | 55.26
Pennsylvania | 48.29
Rhode Island | 47.67
South Carolina | 60.12
South Dakota | 51.12
Tennessee | 55.91
Texas | 50.70
Utah | 59.01
Vermont | 49.65
Virginia | 45.19
Washington | 46.36
West Virginia | 60.79
Wisconsin | 52.03
Wyoming | 41.49
American Samoa | 70.00
Guam | 70.00
Puerto Rico | 70.00
N. Mariana Islands | 70.00
Virgin Islands | 70.00
* State Percentage = 50 percent of year average divided by the National United States 3-year average.
** State Percentage minus 100 percent yields the IV-B1 allotment percentage.
¹ Allotment Percentage has been adjusted in accordance with Section 423(b)(1).

Statutory Authority: Section 423(c) of the Social Security Act (42 U.S.C. 623(c)).

Mary M. Wayland,
Senior Grants Policy Specialist, Division of Grants Policy, Office of Administration.

[FR Doc. 2016-28770 Filed 11-29-16; 8:45 am]

BILLING CODE 4184-01-P